DEPARTMENT OF HOMELAND SECURITY

Federal Emergency Management Agency

[Docket ID FEMA-2008-0017]

Voluntary Private Sector Accreditation and Certification Preparedness Program

AGENCY: Federal Emergency Management Agency, DHS.

ACTION: Public meeting notice.

SUMMARY: This notice announces the date, time, location, and discussion topics for a stakeholder meeting open to the public to engage in dialogue with Department of Homeland Security (DHS) leadership and program managers regarding the Voluntary Private Sector Preparedness Accreditation and Certification Program (PS-Prep).

DATES: Public Meeting: Monday, February 23, 2009, 9 a.m.-2:30 p.m. Eastern Standard Time.

ADDRESSES: The meeting will be held at the American Red Cross Ballroom, Hall of Service, 1730 E Street, NW., Washington, DC 20006. Enter at the E Street entrance. This is not located at the Red Cross Headquarters. The nearest Metro stations are Farragut West (exit at 17th and I Street, walk south towards H Street for four blocks and turn right at E Street) and Farragut North (exit at Connecticut Avenue and K Street, walk south towards I Street for five blocks and turn right at E Street).

You may submit comments, identified by Docket ID FEMA-2008-0017, by one of the following methods:

Federal eRulemaking Portal: http://www.regulations.gov. Follow the instructions for submitting comments. (All government requests for comments—even if, as in this case, they are not for regulatory purposes—are sent to this portal.)

E-mail: FEMA-POLICY@dhs.gov. Include Docket ID FEMA-2008-0017 in the subject line of the message.

Fax: 703-483-2999.

Mail/Hand Delivery/Courier: Office of Chief Counsel, Federal Emergency Management Agency, 500 C Street, SW., Room 845, Washington, DC 20472.

Instructions: All submissions received must include the agency name and docket number (if available). Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of Chief Counsel, 500 C Street, SW., Room 840, Washington, DC 20472.

Instructions: Any stakeholder or member of the public who wishes to attend the public meeting or make a presentation is requested to provide his or her name and contact details to include e-mail address and telephone number, no later than 5 p.m. Eastern Standard Time, Tuesday, February 17, 2009 via e-mail to the PS-Prep Program at privatesectorpreparedness@hsi.dhs.gov, or via telephone at (703) 416-8407. Everyone who plans to attend the meeting is respectfully requested to be present and seated by 8:45 a.m. Persons with disabilities who require special assistance should indicate this in their admittance request and are encouraged to identify anticipated special needs as early as possible. Although every effort will be made to accommodate all members of the public, seating is limited and will be allocated on a first-come, first-served basis.

FOR FURTHER INFORMATION CONTACT: Mr. Donald Grant, Incident Management Systems Integration Division, National Preparedness Directorate, National Integration Center, 500 C Street, SW., Washington, DC 20472. Phone: 202-646-3850 or e-mail: FEMA-NIMS@dhs.gov.

SUPPLEMENTARY INFORMATION: On December 24, 2008, the Federal Emergency Management Agency (FEMA), Department of Homeland Security (DHS), published a Federal Register notice “Voluntary Private Sector Accreditation and Certification Preparedness Program,” announcing PS-Prep, a DHS program established under the authority of Title IX of the Implementing Recommendations of the 9/11 Commission Act of 2007, Public Law 110-53, 121 Stat. 266, 338 (Aug. 3, 2007). See 73 FR 79140; also available at http://www.regulations.gov/search/index.jsp (Docket ID FEMA-2008-0017). As discussed in the notice, DHS is developing PS-Prep to raise the level of private sector preparedness through a number of means, including: (i) Establishing a system for DHS to adopt private sector preparedness standards; (ii) encouraging creation of those standards; (iii) developing a method for a private sector entity to obtain a certification of conformity with a particular DHS-adopted private sector standard, and encouraging such certification; and (iv) making preparedness standards adopted by DHS more widely available.

The December 24, 2008 Federal Register notice (Docket ID FEMA-2008-0017) seeks recommendations from private sector stakeholders and the public at large regarding the private sector standards that DHS should adopt, both initially and over time (73 FR at 79142). The December 24, 2008 Federal Register notice also states that DHS intends to hold two public meetings in Washington, DC to provide a forum for public comment (See 73 FR 79145).

This notice announces the second stakeholder outreach meeting. FEMA is hosting this public meeting to discuss issues of interest pertaining to PS-Prep. The purpose of this meeting is to provide an open forum for additional comment and dialogue with DHS on PS-Prep. Individuals desiring to participate will have the opportunity to make a brief, formal or informal, presentation of not more than 10 minutes and then, if desired, engage in a questions and answers session with DHS staff responsible for implementing PS-Prep. The specific issues to be discussed at this meeting include any of the material addressed in the December 24, 2008 Federal Register notice to include (i) cost considerations, such as fees for standards, certification, and preparedness costs related to size of business enterprise; (ii) the impact of existing practices, standards and regulations on participation in PS-Prep; (iii) understanding the spectrum of private sector preparedness, specifically from self-declaration of conformance to third-party certification; (iv) the role of the Federal Government in private sector preparedness; (v) key factors that influence participation in PS-Prep; (vi) the number and type of standards to be adopted by DHS; (vii) scalability of the certification, specifically related to location, products, services, and organizational components; (viii) priorities for national preparedness compared to business preparedness; and (ix) suggestion for effective outreach strategies and tactics to promote PS-Prep.

Public attendance is encouraged.

Dated: February 3, 2009.
David Garratt,
Acting Deputy Administrator, Federal Emergency Management Agency.

[FR Doc. E9-2927 Filed 2-10-09; 8:45 am]

BILLING CODE 9111-46-P